POSTAL RATE COMMISSION

Sunshine Act Meeting

Name of Agency: Postal Rate Commission.

Time and Date: Wednesday, August 20, 2003, at 10:30 a.m.

Place: Commission conference room, 1333 H Street, NW., Suite 300, Washington, DC 20268-0001.

Status: Closed.

Matters to be Considered: Decision in Docket No. MC2003-2, Experimental Parcel Return Services.

For Further Information Contact: Stephen L. Sharfman, General Counsel, Postal Rate Commission, Suite 300, 1333 H Street, NW., Washington, DC 20268-0001, 202-789-6820.

Dated: August 12, 2003.
Steven W. Williams,
Secretary.

[FR Doc. 03-20993 Filed 8-13-03; 8:45 am]

BILLING CODE 7710-FW-M